FEDERAL COMMUNICATIONS COMMISSION

[CC Docket No. 96-45; DA 04-998]

Parties Are Invited to Comment on Supplemented Petitions for Eligible Telecommunications Carrier Designations

AGENCY: Federal Communications Commission.

ACTION: Notice; solicitation of comments.

SUMMARY: In this document, interested parties are invited to comment on supplemented petitions by certain wireless telecommunications carriers seeking designation as eligible telecommunications carriers (ETCs) pursuant to section 214(e)(6) of the Communications Act of 1934, as amended (the Act).

DATES: Comments are due on or before May 7, 2004. Reply comments are due on or before May 14, 2004.

ADDRESSES: Federal Communications Commission, 445 12th Street, SW., Washington, DC 20554. See SUPPLEMENTARY INFORMATION for further filing instructions.

FOR FURTHER INFORMATION CONTACT: Thomas Buckley, Attorney, Wireline Competition Bureau, Telecommunications Access Policy Division, (202) 418-7400, TTY (202) 418-0484.

SUPPLEMENTARY INFORMATION: This is a summary of public notice, CC Docket No. 96-45, DA 04-998, released April 12, 2004. On January 22, 2004, the Commission released the Virginia Cellular Order, 69 FR 8958, February 26, 2004, which granted in part and denied in part, the petition of Virginia Cellular, LLC to be designated as an ETC throughout its licensed service area in the Commonwealth of Virginia. In that Order, the Commission utilized a new public interest analysis for ETC designations and imposed ongoing conditions and reporting requirements on Virginia Cellular. The Commission further stated that the framework enunciated in the Virginia Cellular Order would apply to all ETC designations for rural areas pending further action by the Commission.

Following the framework established in the Virginia Cellular Order, on April 12, 2004, the Commission released the Highland Cellular Order, FCC 04-37, April 12, 2004, which granted in part and denied in part the petition of Highland Cellular, Inc. to be designated as an ETC in portions of its licensed service area in the Commonwealth of Virginia. In the Highland Cellular Order, the Commission concluded, among other things, that a telephone company in a rural study area may not be designated as a competitive ETC below the wire center level.

In light of the new standards and requirements set forth in the Virginia Cellular Order, certain wireless telecommunications carriers have supplemented previously filed ETC petitions. These carriers are listed in the attached appendix. Interested parties are invited to comment on these supplemented petitions.

Pursuant to §§ 1.415 and 1.419 of the Commission's rules, 47 CFR 1.415, 1.419, interested parties may file comments as follows: comments are due on or before May 7, 2004, and reply comments are due on or before May 14, 2004. Comments may be filed using the Commission's Electronic Comment Filing System (ECFS) or by filing paper copies. See Electronic Filing of Documents in Rulemaking Proceedings, 63 FR 24121, May 1, 1998. Parties should clearly specify in the caption of all filings the petition(s) and application(s) to which the filing relates.

Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other then U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission.

Parties also must send three paper copies of their filing to Sheryl Todd, Telecommunications Access Policy Division, Wireline Competition Bureau, Federal Communications Commission, 445 12th Street, SW., Room 5-B540, Washington, DC 20554. In addition, commenters must send diskette copies to the Commission's copy contractor, Qualex International, Portals II, 445 12th Street, SW., Room CY-B402, Washington, DC 20054.

Pursuant to § 1.1206 of the Commission's rules, 47 CFR 1.1206, this proceeding will be conducted as a permit-but-disclose proceeding in which ex parte communications are permitted subject to disclosure.

Federal Communications Commission.
Anita Cheng,
Assistant Chief, Wireline Competition Bureau, Telecommunications Access Policy Division.

Appendix

ETC Petitions¹ | Date petition filed | Date supplement filed
Guam Cellular and Paging, Inc. d/b/a Saipancell (CNMI) | 2/19/02 | 3/9/04
NCPR, Inc. d/b/a Nextel Partners (NY) | 4/03/03 | 3/24/04
NCPR, Inc. d/b/a Nextel Partners (PA) | 4/03/03 | 3.24.04
NCPR, Inc. d/b/a Nextel Partners (AL) | 4/04/03 | 3/24/04
ALLTEL Communications, Inc. (AL)* | 4/14/03 | 3/1/04
ALLTEL Communications, Inc. (VA)* | 4/14/03 | 3/1/04
NCPR, Inc. d/b/a Nextel Partners (VA) | 4/23/03 | 3/24/04
Advantage Cellular Systems, Inc. (TN) | 5/9/03 | 2/17/04
NCPR, Inc. d/b/a Nextel Partners (TN) | 6/12/03 | 3/24/04
NCPR, Inc. d/b/a Nextel Partners (GA) | 7/10/03 | 3/24/04
ALLTEL Communications, Inc. (GA)* | 8/26/03 | 3/1/04
ALLTEL Communications, Inc. (NC)* | 8/26/03 | 3/1/04
NCPR, Inc. d/b/a Nextel Partners (FL) | 9/16/03 | 3/24/04
ALLTEL Communications, Inc. (FL)* | 11/20/03 | 3/1/04
* This Public Notice only applies to ALLTEL's pending petitions with respect to ETC designations in areas served by non-rural carriers. ALLTEL previously bifurcated its pending ETC petitions into separate requests for ETC designation in non-rural and rural service areas.

[FR Doc. 04-9296 Filed 4-22-04; 8:45 am]

BILLING CODE 6712-01-P